DEPARTMENT OF ENERGY

Federal Energy Regulatory Commission

Combined Notice of Filings #1

February 20, 2007.

Take notice that the Commission received the following electric corporate filings:

Docket Numbers: EC07-4-000.

Applicants: Aquila, Inc.; MEP Pleasant Hill LLC.

Description: Aquila, Inc. and MEP Pleasant Hill LLC submit a withdrawal of their application filed 10/12/06.

Filed Date: 02/02/2007.

Accession Number: 20070202-5015.

Comment Date: 5 p.m. Eastern Time on Friday, February 23, 2007.

Take notice that the Commission received the following electric rate filings:

Docket Numbers: ER99-2948-010; ER00-2918-009; ER00-2917-009; ER97-2261-020; ER01-556-008; ER01-1654-011; ER02-2567-009; ER02-699-003; ER01-1949-009; ER04-485-006; ER07-247-01; ER07-245-001; ER07-244-001.

Applicants: Baltimore Gas and Electric Company; Constellation Power Source Generation, Inc.; Calvert Cliffs Nuclear Power Plant, Inc.; Constellation Energy Commodities Group, Inc.; Handsome Lake Energy, LLC; Nine Mile Point Nuclear Station, LLC; Constellation NewEnergy, Inc.; Constellation Energy Commodities Group Maine, LLC; Power Provider LLC; R.E. Ginna Nuclear Power Plant, LLC; Raven One, LLC; Raven Two, LLC; Raven Three, LLC.

Description: Constellation Energy Group, Inc, et al, submit a Notice of Change in Status in their market-based rate entities.

Filed Date: 02/09/2007.

Accession Number: 20070216-0250.

Comment Date: 5 p.m. Eastern Time on Friday, March 02, 2007.

Docket Numbers: ER02-488-005.

Applicants: Midwest Independent Transmission System Operator, Inc.

Description: Midwest Independent Transmission System Operator, Inc submits proposed revisions to its Operating Protocol for Existing Generators, FERC Electric Tariff, First Revised Rate Schedule 4.

Filed Date: 02/12/2007.

Accession Number: 20070213-0084.

Comment Date: 5 p.m. Eastern Time on Monday, March 05, 2007.

Docket Numbers: ER03-1001-002.

Applicants: Galt Power Inc.

Description: Galt Power, Inc submits its triennial market power update.

Filed Date: 02/12/2007.

Accession Number: 20070213-0085.

Comment Date: 5 p.m. Eastern Time on Monday, March 05, 2007.

Docket Numbers: ER04-157-016.

Applicants: Vermont Electric Cooperative, Inc.

Description: Vermont Electric Cooperative, Inc submits a compliance filing recalculations and supporting documentation reflecting the modification of charges etc.

Filed Date: 02/01/2007.

Accession Number: 20070202-0227.

Comment Date: 5 p.m. Eastern Time on Monday, February 26, 2007.

Docket Numbers: ER04-691-081.

Applicants: Midwest Independent Transmission System Operator, Inc.

Description: Midwest Independent Transmission System Operator, Inc submits its responses to FERC's letter dated 1/26/07 seeking additional information on the Midwest ISO's compliance filing dated 2/26/06.

Filed Date: 02/12/2007.

Accession Number: 20070214-0004.

Comment Date: 5 p.m. Eastern Time on Monday, February 26, 2007.

Docket Numbers: ER05-636-006.

Applicants: Midwest Independent Transmission System Operator, Inc.

Description: Midwest Independent Transmission System Operator Inc submits an errata to its 1/16/07 Filing of a Supplement to Compliance Filing of Large Generator Interconnection Agreement.

Filed Date: 02/09/2007.

Accession Number: 20070214-0008.

Comment Date: 5 p.m. Eastern Time on Friday, March 02, 2007.

Docket Numbers: ER06-435-002.

Applicants: Midwest Independent Transmission System Operator, Inc.

Description: Midwest Independent Transmission System Operator Inc submits an amended Large Generator Interconnection Agreement among Great River Energy.

Filed Date: 02/09/2007.

Accession Number: 20070212-0032.

Comment Date: 5 p.m. Eastern Time on Friday, March 02, 2007.

Docket Numbers: ER06-185-007.

Applicants: New York Independent System Operator, Inc.

Description: New York Independent System Operator, Inc submits an Informational Report Setting Forth Timetable for Completion of RTGP Based Bill Corrections of New York Independent System Operator, Inc.

Filed Date: 02/01/2007.

Accession Number: 20070201-5051.

Comment Date: 5 p.m. Eastern Time on Thursday, March 01, 2007.

Docket Numbers: ER06-1014-002.

Applicants: New York Independent System Operator, Inc.

Description: New York Independent System Operator, Inc. submits a Price Validation Informational Report.

Filed Date: 02/01/2007.

Accession Number: 20070131-5088.

Comment Date: 5 p.m. Eastern Time on Thursday, March 01, 2007.

Docket Numbers: ER07-150-002.

Applicants: Public Service Company of New Mexico.

Description: Public Service Company of New Mexico submits its Open Access Transmission Tariff in compliance with the Commission's Letter Order issued 12/20/06.

Filed Date: 02/09/2007.

Accession Number: 20070212-0034.

Comment Date: 5 p.m. Eastern Time on Friday, March 02, 2007.

Docket Numbers: ER07-166-001.

Applicants: Texas New Mexico Power Company.

Description: Public Service Company of New Mexico submits its compliance filing with FERC's 12/21/06 Order.

Filed Date: 02/09/2007.

Accession Number: 20070212-0035.

Comment Date: 5 p.m. Eastern Time on Friday, March 02, 2007.

Docket Numbers: ER07-231-001.

Applicants: PJM Interconnection, LLC; New York Independent System Operator, Inc.; ISO New England Inc.

Description: PJM Interconnection, LLC et al submits rate schedule and tariff sheets that reflect for the three respective control areas in conformance w/ Order 614 etc under ER07-231.

Filed Date: 02/12/2007.

Accession Number: 20070213-0029.

Comment Date: 5 p.m. Eastern Time on Monday, March 05, 2007.

Docket Numbers: ER07-412-001.

Applicants: ECP Energy I, LLC.

Description: ECP Energy I, LLC submits an amendment to application of ECP Energy I, LLC for order accepting initial tariff, waiving regulations, and granting blanket approvals.

Filed Date: 02/09/2007.

Accession Number: 20070212-0036.

Comment Date: 5 p.m. Eastern Time on Friday, March 02, 2007.

Docket Numbers: ER07-430-001.

Applicants: Dunhill Power, L.P.

Description: Dunhill Power, LP submits a response to FERC's request for clarification on the upstream ownership.

Filed Date: 02/12/2007.

Accession Number: 20070213-0087.

Comment Date: 5 p.m. Eastern Time on Monday, March 05, 2007.

Docket Numbers: ER07-529-000.

Applicants: Midwest Independent Transmission System Operator, Inc.

Description: Midwest Independent Transmission System Operator, Inc submits revisions to their FERC Electric tariff, Third Revised Volume 1 under ER07-529.

Filed Date: 02/09/2007.

Accession Number: 20070212-0045.

Comment Date: 5 p.m. Eastern Time on Friday, March 02, 2007.

Docket Numbers: ER07-530-000.

Applicants: Red Shield Environmental, L.L.C.

Description: Red Shield Environmental, LLC submits its FERC Electric Rate Schedule 1.

Filed Date: 02/09/2007.

Accession Number: 20070212-0044.

Comment Date: 5 p.m. Eastern Time on Friday, March 02, 2007.

Docket Numbers: ER07-531-000.

Applicants: PJM Interconnection, L.L.C.

Description: PJM Interconnection, LLC submits an executed Wholesale Market Participation Agreement with Millenium Inorganic Chemicals, Inc et al.

Filed Date: 02/09/2007.

Accession Number: 20070212-0043.

Comment Date: 5 p.m. Eastern Time on Friday, March 02, 2007.

Docket Numbers: ER07-533-000.

Applicants: Midwest Independent Transmission System Operator, Inc.

Description: Midwest Independent Transmission System Operator, Inc submits proposed revisions to the Midwest ISO Open Access Transmission and Energy Markets Tariff.

Filed Date: 02/12/2007.

Accession Number: 20070213-0028.

Comment Date: 5 p.m. Eastern Time on Monday, March 05, 2007.

Docket Numbers: ER07-534-000.

Applicants: Louisville Gas and Electric Company.

Description: Louisville Gas and Electric Co et al submits a service agreement under LG&E/KU Tariff for Cost-Based Sales of Capacity and Energy.

Filed Date: 02/12/2007.

Accession Number: 20070213-0086.

Comment Date: 5 p.m. Eastern Time on Monday, March 05, 2007.

Take notice that the Commission received the following electric securities filings:

Docket Numbers: ES07-20-000.

Applicants: California Independent System Operator Corporation.

Description: California Independent System Operator Corp's application under Section 204 of the Federal Power Act for an order authorizing the issuance of securities in an amount not to exceed $60 million.

Filed Date: 02/09/2007.

Accession Number: 20070212-0033.

Comment Date: 5 p.m. Eastern Time on Friday, March 02, 2007.

Take notice that the Commission received the following foreign utility company status filings:

Docket Numbers: FC07-9-000.

Applicants: AES TEG TEP Holdings B.V.

Description: AES TEG/TEP Holdings Notification of Self-Certification of Foreign Utility Company Status.

Filed Date: 02/09/2007.

Accession Number: 20070209-5083.

Comment Date: 5 p.m. Eastern Time on Friday, March 02, 2007.

Any person desiring to intervene or to protest in any of the above proceedings must file in accordance with rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E7-3229 Filed 2-23-07; 8:45 am]

BILLING CODE 6717-01-P